DEPARTMENT OF HOMELAND SECURITY

Coast Guard

33 CFR Part 165

[Docket No. USCG-2023-0138]

Safety Zone; Riverfest Fireworks Display, Neches River, Port Neches, Texas

AGENCY: Coast Guard, DHS.

ACTION: Notification of enforcement of regulation.

SUMMARY: The Coast Guard will enforce a safety zone for the Riverfest fireworks display on the Neches River in Port Neches, TX from 8:30 p.m. through 10 p.m. on May 6, 2023 to provide for the safety of life on navigable waterways during this event. Our regulation for fireworks displays and other events within the Eighth Coast Guard District identifies the regulated area for this event in Port Neches, TX. During the enforcement periods, the operator of any vessel in the regulated area must comply with directions from the Patrol Commander or designated representative.

DATES: The regulations in 33 CFR 165.801, Table 3, line 1 will be enforced from 8:30 p.m. through 10 p.m. on May 6, 2023, or in the event of postponement due to rain, on May 7, 2023.

FOR FURTHER INFORMATION CONTACT: If you have questions about this notification of enforcement, call or email Mr. Scott Whalen, U.S. Coast Guard; telephone 409-719-5086, email scott.k.whalen@uscg.mil.

SUPPLEMENTARY INFORMATION: The Coast Guard will enforce safety zone regulations in 33 CFR 165.801 Table 3, Line 1, for the Port Neches Riverfest fireworks display from 8:30 p.m. through 10 p.m. on May 6, 2023, or in the event of rain, on May 7, 2023. This action is being taken to provide for the safety of life on navigable waterways during before, during, and after a pyrotechnics display. Our annual fireworks displays and other events in the Eighth Coast Guard District requiring safety zones, § 165.801, specifies the location of the safety zone for the Riverfest fireworks display which encompasses a 500-yard radius around the fireworks barge anchored on the Neches River in approximate position 29°59′51″ N 093°57′06″ W (NAD83). During the enforcement period, as reflected in § 165.801, Table 3, if you are the operator of a vessel in the regulated area you must comply with directions from the Patrol Commander or designated representative.

In addition to this notice of enforcement in the Federal Register, the Coast Guard plans to provide notification of the enforcement periods via Local Notice to Mariners, Marine Safety Information Bulletin and Vessel Traffic Service Advisory.

Dated: March 3, 2023.
Molly A. Wike,
Captain, U.S. Coast Guard, Captain of the Port Marine Safety Zone Port Arthur.

[FR Doc. 2023-04745 Filed 3-7-23; 8:45 am]

BILLING CODE 9110-04-P